DEPARTMENT OF TRANSPORTATION

Federal Railroad Administration

[Docket Number FRA-2010-0161]

Petition for Waiver of Compliance

In accordance with part 211 of Title 49 Code of Federal Regulations (CFR), this document provides the public notice that by a document dated April 8, 2016, the Hoosier Valley Railroad Museum (HVRM), petitioned the Federal Railroad Administration (FRA) for a waiver of compliance from certain provisions of the Federal railroad safety regulations contained at 49 CFR part 223, Railroad Safety Glazing Standards. FRA assigned the petition Docket Number FRA-2010-0161.

HVRM has requested a permanent waiver of compliance for one caboose from the requirements of 49 CFR part 223, which requires certified glazing in all windows. HVRM's five cabooses, B&LE 1989, EL C345, NKP 471, GTW 75072, and EJ&E 184, were previously granted relief from the glazing requirements in FRA's July 14, 2011, decision letter. Since that time, the glazing requirements have been amended to add provisions for glazing on equipment that is over 50 years of age from its original construction date. Only Caboose EJ&E 184, which was built in 1970, does not meet the 50-year threshold in order to be covered under the recently enacted glazing rule for antiquated equipment. Caboose EJ&E 184 is less than 50 years of age and does not meet the glazing requirements of 49 CFR 223.13, and thus requires regulatory relief to continue in operation.

HVRM is a non-profit 501(c)(3) organization located in North Judson, Indiana. It is a member of the Association of Tourist Railroads & Railway Museums, and operates the railroad museum with the mission to preserve railroad history in northwest Indiana. The town of North Judson acquired 33 miles of rail line, purchased in 2004 from CSX Transportation to help maintain a rail corridor for railway excursions provided by HVRM using the heritage equipment. HVRM is all volunteer operated, has 15 or less “hours of service” volunteer workers, and has FRA-approved certification programs for engineers and conductors. HVRM operations/train excursions are conducted primarily on weekends. There are also 10 or less weekday excursions annually for school field trips and community organizations. The town of North Judson contracts with a Class III short line operator, the Chesapeake & Indiana Railroad (CKIN), to maintain the rail line and provide freight service to the rail line customers. The primary freight corridor is Malden to La Crosse to Wellsboro, Indiana. La Crosse contains a wye track used both by HVRM and CKIN for their respective operations. HVRM provides a 30-day advance notice of excursion train schedules to CKIN. Both entities operate under the General Code of Operating Rules and the entire 33-mile rail line is operated under yard limits at speeds not to exceed 20 miles per hour.

HVRM notes that the use of this caboose for tourist, historic, or excursion operations will be on expanded territory as referenced in HVRM's April 11, 2016, letter assigned to FRA Docket Number FRA-2006-24647. In addition to the 10 miles between North Judson and La Crosse, the caboose will occasionally operate in tourist, excursion, and special event trains as far as Malden, South Thomaston, Hanna, and Wellsboro.

The subject caboose, EJ&E 184, is only operated at limited track speed under yard limits subject to the authority of the CKIN, which is part of the general railroad system. HVRM notes that the installed glass in the subject caboose is in good condition, operations are in a benign environment, and the expense of retrofitting the subject caboose with FRA certified glazing imposes a financial burden.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for the request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 5, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-14533 Filed 6-20-16; 8:45 am]

BILLING CODE 4910-06-P